DEPARTMENT OF ENERGY

Federal Energy Regulatory Commission

Combined Notice of Filings

Take notice that the Commission has received the following Natural Gas Pipeline Rate and Refund Report filings:

Filings Instituting Proceedings

Docket Numbers: RP14-44-000.

Applicants: Energy West Development, Inc.

Description: Compliance filing to GT&#38; C section 18 to be effective 12/2/2013.

Filed Date: 10/16/13.

Accession Number: 20131016-5007.

Comments Due: 5 p.m. ET 10/28/13.

Docket Numbers: RP14-45-000.

Applicants: East Tennessee Natural Gas, LLC.

Description: Eastman Chemical 410456 Negotiated Rate to be effective 11/1/2013.

Filed Date: 10/16/13.

Accession Number: 20131016-5095.

Comments Due: 5 p.m. ET 10/28/13.

Docket Numbers: RP14-46-000.

Applicants: Transcontinental Gas Pipe Line Company.

Description: Tariff Revision and Clarification Filing October 2013 to be effective 11/16/2013.

Filed Date: 10/16/13.

Accession Number: 20131016-5125.

Comments Due: 5 p.m. ET 10/28/13.

Docket Numbers: RP14-47-000.

Applicants: Natural Gas Pipeline Company of America.

Description: Negotiated Rate—Tenaska LPS RO to be effective 10/16/2013.

Filed Date: 10/16/13.

Accession Number: 20131016-5131.

Comments Due: 5 p.m. ET 10/28/13.

Docket Numbers: RP14-48-000.

Applicants: Natural Gas Pipeline Company of America.

Description: Tenaska LPS RO Negotiated Rate to be effective 10/16/2013.

Filed Date: 10/16/13.

Accession Number: 20131016-5141.

Comments Due: 5 p.m. ET 10/28/13.

Docket Numbers: RP14-49-000.

Applicants: Natural Gas Pipeline Company of America.

Description: Negotiated Rate Tenaska to be effective 10/16/2013.

Filed Date: 10/16/13.

Accession Number: 20131016-5146.

Comments Due: 5 p.m. ET 10/28/13.

Docket Numbers: RP14-50-000.

Applicants: Tennessee Gas Pipeline Company, L.L.C.

Description: Volume No. 2—Cabot Oil & Gas and Southwestern Energy Svs-Neg Rate and Non Conf to be effective 11/1/2013.

Filed Date: 10/16/13.

Accession Number: 20131016-5158.

Comments Due: 5 p.m. ET 10/28/13.

Docket Numbers: RP14-51-000.

Applicants: Tennessee Gas Pipeline Company, L.L.C.

Description: Tennessee Gas Pipeline Company, L.L.C. submits tariff filing per 154.204: Volume No. 2—Anadarko Energy Services and MMGS—Neg and Non Conforming Agmts to be effective 11/1/2013.

Filed Date: 10/16/13.

Accession Number: 20131016-5158.

Comments Due: 5 p.m. ET 10/28/13.

Docket Numbers: RP14-52-000.

Applicants: Shell U.S. Gas & Power, LLC.

Description: Petition of Shell U.S. Gas & Power, LLC. for Declaratory Order and Request for Expedited Consideration.

Filed Date: 10/16/13.

Accession Number: 20131016-5178.

Comments Due: 5 p.m. ET 11/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2013.
Nathaniel J. Davis, Sr.,
Deputy Secretary.

[FR Doc. 2013-25533 Filed 10-28-13; 8:45 am]

BILLING CODE 6717-01-P